ENVIRONMENTAL PROTECTION AGENCY

40 CFR Part 372

[EPA-HQ-OPPT-2018-0155; FRL-6004-01-OCSPP]

RIN 2070-AK42

Parent Company Definition for Toxics Release Inventory (TRI) Reporting

AGENCY: Environmental Protection Agency (EPA).

ACTION: Proposed rule.

SUMMARY: EPA proposes to codify the definition of “parent company” for purposes of reporting to the Toxics Release Inventory (TRI). Although the existing regulation requires facilities reporting to TRI to identify their parent company in annual reporting forms, no codified definition of this data element exists. Among the facilities reporting to TRI are those with complicated corporate ownership structures. As such, effort is required each year by reporting facilities and EPA to clarify how the parent company data element should be represented on the form. A codified definition of parent company would allow EPA to address various corporate ownership scenarios explicitly and reduce the reporting burden caused by regulatory uncertainty. This proposed rule would clarify existing regulations to reporting facilities and add a foreign parent company data element, if applicable, while improving the Agency's data quality.

DATES: Comments must be received on or before November 29, 2021. Under the Paperwork Reduction Act, comments on the information collection provisions are best assured of consideration if the Office of Management and Budget (OMB) receives a copy of your comments on or before October 28, 2021.

ADDRESSES: Submit your comments, identified by docket identification (ID) number EPA-HQ-OPPT-2018-0155, using the Federal eRulemaking Portal at http://www.regulations.gov. Follow the online instructions for submitting comments. Do not submit electronically any information you consider to be Confidential Business Information (CBI) or other information whose disclosure is restricted by statute.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT:

For technical information contact: Stephanie Griffin, Data Gathering and Analysis Division, Mailcode 7410M, Office of Pollution Prevention and Toxics, Environmental Protection Agency, 1200 Pennsylvania Ave. NW, Washington, DC 20460-0001; telephone number: (202) 564-1463; email address: griffin.stephanie@epa.gov.

For general information contact: The Emergency Planning and Community Right-to-Know Information Center; telephone number: (800) 424-9346, TDD (800) 553-7672; website: https://www.epa.gov/home/epa-hotlines.

SUPPLEMENTARY INFORMATION:

I. Executive Summary

A. Does this action apply to me?

You may be potentially affected by this action if your facility submits annual reports under section 313 of the Emergency Planning and Community Right-to-Know Act (EPCRA), 42 U.S.C. 11023, and section 6607 of the Pollution Prevention Act (PPA), 42 U.S.C. 13106, to EPA and States or Tribes of the facility's environmental releases or other waste management quantities of covered chemicals. (Pursuant to 40 CFR 372.30(a), facilities located in Indian country are required to report to the appropriate tribal government official and EPA instead of to the State and EPA. See April 19, 2012 (77 FR 23409) (FRL-9660-9)). To determine whether your facility is affected by this action, you should carefully examine the applicability criteria in 40 CFR part 372, subpart B. The following list of North American Industrial Classification System (NAICS) codes is not intended to be exhaustive, but rather provides a guide to help readers determine whether this document applies to them. Potentially affected entities may include:

• Facilities included in the following NAICS manufacturing codes (corresponding to Standard Industrial Classification (SIC) codes 20 through 39): 311*, 312*, 313*, 314*, 315*, 316, 321, 322, 323*, 324, 325*, 326*, 327, 331, 332, 333, 334*, 335*, 336, 337*, 339*, 111998*, 113310, 211130*, 212324*, 212325*, 212393*, 212399*, 488390*, 511110, 511120, 511130, 511140*, 511191, 511199, 512230*, 512250*, 519130*, 541713*, 541715*, or 811490*. (* Exceptions and/or limitations exist for these NAICS codes.)

• Facilities included in the following NAICS codes (corresponding to SIC codes other than SIC codes 20 through 39): 212111, 212112, 212113 (corresponds to SIC code 12, Coal Mining (except 1241)); or 212221, 212222, 212230, 212299 (corresponds to SIC code 10, Metal Mining (except 1011, 1081, and 1094)); or 221111, 221112, 221113, 221118, 221121, 221122, 221330 (all are limited to facilities that combust coal and/or oil for the purpose of generating power for distribution in commerce) (corresponds to SIC codes 4911, 4931, and 4939, Electric Utilities); or 424690, 425110, 425120 (limited to facilities previously classified in SIC code 5169, Chemicals and Allied Products, Not Elsewhere Classified); or 424710 (corresponds to SIC code 5171, Petroleum Bulk Terminals and Plants); or 562112 (limited to facilities primarily engaged in solvent recovery services on a contract or fee basis (previously classified under SIC code 7389, Business Services, NEC)); or 562211, 562212, 562213, 562219, 562920 (limited to facilities regulated under the Resource Conservation and Recovery Act, subtitle C, 42 U.S.C. 6921 et seq.) (corresponds to SIC code 4953, Refuse Systems).

• Federal facilities.

B. What is the Agency's authority for taking this action?

Covered facilities in specified SIC codes that manufacture, process, or otherwise use listed toxic chemicals in amounts above specified threshold levels report certain facility specific information about such chemicals, including the annual releases and other waste management quantities. EPCRA section 313(g)(1) requires EPA to publish a uniform toxic chemical release form for these reporting purposes, and it also prescribes, in general terms, the types of information that must be submitted on the form. Congress also granted EPA broad rulemaking authority to allow the Agency to fully implement the statute, to ensure the release forms are available to inform the public of toxic chemical releases and “to assist governmental agencies, researchers, and other persons in the conduct of research and data gathering” (EPCRA section 313(h)). EPCRA section 328 states that: “The Administrator may prescribe such regulations as may be necessary to carry out this chapter” (42 U.S.C. 11048).

C. What action is the Agency taking?

EPA is proposing to codify the definition of “parent company” for TRI reporting purposes. Under this proposed action, EPA would clarify existing guidance and provide reporting clarity for facilities, including those owned by corporate subsidiaries, multiple owners, foreign entities, or that are publicly owned.

Currently, facilities required to report to TRI must also report their parent companies and identify whether any reportable off-site transfers of TRI chemicals are sent to a facility also owned by that same parent company. Reporting facilities rely on the TRI Reporting Forms and Instructions (RFI) to report this information and to address questions, including what constitutes a “parent company” for TRI reporting purposes. The RFI does not address all scenarios applicable to many TRI facilities, including facilities owned by subsidiaries of larger companies; facilities with multiple owners, none of whom are a majority owner; joint ventures that are not purely 50:50; facilities directly owned by foreign entities; and publicly-owned facilities. EPA is proposing to codify that the “parent company” for TRI reporting purposes is the highest-level company with the largest ownership interest in the TRI facility as of December 31 of the reporting year. This proposal addresses the following ownership scenarios:

• A facility is owned by a single company, which is not owned by another company;

• A facility is owned by a single company, which is owned by another company;

• A facility is owned by multiple companies, including companies that are themselves owned by other entities;

• A facility is owned by a joint venture or cooperative;

• A facility is owned, at least in part, by a foreign company; and

• A facility is owned by the federal government, or a state, tribal, or municipal government.

EPA is also proposing to require facilities reporting to TRI to utilize standardized naming conventions for parent company reporting, as provided in the annual TRI RFI, available as a downloadable Excel file (“Standardized Parent Company Names”) at www.epa.gov/tri/rfi. These naming conventions address common formatting discrepancies, such as punctuation, capitalization, and abbreviations (for example, “Corp” for “Corporation”).

D. Why is the Agency proposing this action?

The Agency's current guidance on reporting the parent company on a TRI form has resulted in reporter confusion in situations such as a facility having multiple owners, or no single entity owning at least 50% of the facility. Further, codifying the definition of parent company for the variety of ownership scenarios that exist for TRI reporting facilities will provide regulatory certainty and reporting clarity for the facilities. In previous years, relying only on a broad definition of parent company in the RFI, the Agency has found that many facilities inaccurately report parent company information to TRI, resulting in efforts to contact individual facilities to verify their facility's ownership structure after every annual reporting cycle. EPA has also worked to standardize parent company formatting for data quality purposes. As a result of the formatting standardization, TRI facilities are instructed to report parent companies using common abbreviations (for example, reporting “Inc” for “Incorporation”) and identical punctuation and capitalization styles, where appropriate (Ref. 1). Thus, TRI reports and EPA databases more accurately reflect which facilities are owned by the same parent company, rather than counting parent companies reported with variations in spelling, capitalization, punctuation, or abbreviations as unique companies.

Without a straightforward definition and a standardized format, regularly having to complete data quality screenings on TRI reporting forms is a considerable burden for TRI reporting facilities. Each year, after receiving TRI reporting forms, EPA conducts initial analyses on parent company data received and identifies potential errors on forms, such as unexplained changes in the parent company listed by a facility on its TRI reporting form (e.g., change in name from what was reported for the previous year, misspellings, or discrepancies in formatting). After the initial analyses, EPA then reaches out to individual facilities both to verify whether a different parent company name should have been submitted on the reporting form and to confirm whether the updated and standardized naming format should be used going forward.

For example, for Reporting Year 2019, the Agency received TRI reporting forms from 21,394 facilities. EPA needed to contact 2,119 of those facilities regarding their submitted parent company name to conform the submitted name to the standardized format and reflect the highest-level parent company in the U.S. (9.9% of all TRI facilities). The number of facilities affected by the parent company standardization effort for Reporting Year 2019 was similar to the numbers in Reporting Years 2012 (19% of TRI facilities), 2013 (21% of facilities), 2014 (15% of facilities), 2015 (14% of facilities), 2016 (8.5% of facilities), 2017 (4.5% of facilities), and 2018 (6.8% of facilities). Even though EPA prepopulates standardized parent company names into TRI-MEweb—the reporting software used by TRI facilities—for use in the next reporting year, the Agency still has to reach out to thousands of TRI facilities annually to ensure they submit accurate, standardized parent company names. While time-saving measures have been implemented over the past few years, regulatory uncertainty over this definition remains, and verifying and standardizing parent company information remains burdensome for reporters, necessitating a rule to improve reporting efficiency for TRI facilities and the Agency's data quality efforts.

Additionally, collecting the highest-level foreign parent company name in addition to the highest level-U.S.-based parent company name would ensure greater data consistency for TRI data users than just including one name (i.e., either the highest-level U.S.-based company, or the foreign parent company). The distinct data elements for U.S.-based and foreign parent company names enable data users to include or exclude any foreign parent companies from analyses or searches as they choose. Allowing either a U.S.-based or foreign parent company name to be reported for the same data element would prevent TRI's public data tools from distinguishing companies that are owned by U.S.-based entities from those that are foreign-owned. TRI data users include researchers, industry, the public, and other EPA and government reporting programs. Conversely, a single data element that reflects just the single highest-level parent company, whether it is based in the U.S. or abroad, would prevent any data user from reasonably and efficiently determining where the company is based, unless further data of the listed parent company, such as address, was also required.

Finally, this proposed rule would more closely align the definition of parent company for TRI reporters with the definition codified by the Chemical Data Reporting (CDR) Program at 40 CFR 711.3. Differences in this proposed definition and the definition codified in the CDR regulations result from differences in the respective programs' longstanding terms of art (e.g., TRI uses “facilities,” whereas CDR uses “sites”), as well as from edits intended to provide greater clarity in the TRI context. For instance, the proposed TRI definition slightly differs from CDR regulations in the paragraph referring to 50:50 joint ventures (40 CFR 372.3) in order to clarify that a joint venture should be reported as its own parent company, irrespective of whether any of the joint participants is owned by a higher-level company. Nonetheless, this proposed rule would bring the codified definition of “parent company” under TRI regulations much closer to the codified definition under CDR regulations. Having nearly identical definitions between the TRI and CDR programs will support EPA's ability to compare the databases for data quality purposes. Additionally, the Greenhouse Gas Reporting program (GHGRP) has codified the definition of parent company at 40 CFR 98.3(c)(11). While the GHGRP definition of this data element has some differences from the CDR definition and this rulemaking's proposed definition, there are many similarities between the definitions, including the need to report the highest-level company in the facility's ownership hierarchy and the requirement to refer to reporting instructions for standardized naming conventions. Thus, this proposed definition and reporting requirement is similar to those codified under other EPA reporting rules. Ultimately, this proposed definition is expected to promote understanding of the data element within the regulated community, especially among those facilities which also report to CDR and are already familiar with the codified definition.

E. What are the estimated incremental impacts?

EPA has evaluated the potential incremental impacts of this proposed rulemaking, including alternative options. The details are presented in the economic analysis prepared for the proposed rule (Ref. 2), which is available in the docket and is briefly summarized here.

EPA estimates the incremental impacts across all facilities to be up to $1,209,202 in the first year, and up to $14,020 every subsequent year, with no annualized capital or operation and maintenance costs. The paperwork burden is estimated to be up to 18,091 hours the first year, and up to 210 hours every subsequent year. However, these estimated impacts do not include the cost and time savings for facilities who have previously had difficulty interpreting EPA's guidance on this data element, nor do these impacts include the reduced need for communication between the Agency and facilities in the annual effort to standardize parent company names. The benefits of the proposed rule are described qualitatively in the economic analysis, as some of the benefits are unable to be monetized (such as the improved ability of various TRI data users to analyze parent company-level information thoroughly); thus, the estimated incremental impact listed does not factor in benefits. EPA estimates that a total of 21,458 entities may be impacted by this proposed rule.

F. What should I consider as I prepare my comments for EPA?

1. Submitting CBI. Do not submit CBI to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background

A. What is a facility's “Parent Company” for TRI reporting purposes?

In the RFI, “parent company” is described as: “the highest-level company, located in the United States, that directly owns at least 50 percent of the voting stock of [the facility's] company . . . . [A] facility that is a 50:50 joint venture is its own parent company. When a facility is owned by more than one company and none of the facility owners directly owns at least 50 percent of its voting stock, the facility should provide the name of the parent company of either the facility operator or the owner with the largest ownership interest in the facility.”

B. How does the Agency use parent company data?

After receiving annual TRI reporting forms, EPA uses TRI's parent company data to better understand typical industry practices regarding chemical use and waste management activities. Pursuant to PPA section 6607, TRI reporting facilities must also report information on source reduction and other waste management activities.

The TRI National Analysis, published annually (see: https://www.epa.gov/trinationalanalysis), looks at how the top parent companies (based on quantity of production-related waste managed) managed their wastes in terms of recycling, treatment, energy recovery, and releases. EPA uses this parent company-level data to compare the methods by which the various parent companies are managing their wastes, especially when considering the number of facilities owned by each parent company, in keeping with the PPA. Similarly, the TRI National Analysis highlights the top source reduction activities used by the top parent companies (based on number of source reduction activities), such as improved process modifications and product substitutions (Ref. 3). Further, considering facilities owned by the same parent company allows EPA to compare waste management and pollution prevention activities within a given sector, particularly when a parent company is primarily composed of same-sector facilities. In addition to improving EPA's understanding of industry waste management and source reduction practices, collecting parent company-level data allows TRI data users and reporting facilities to highlight best practices, which may also help other facilities and companies achieve the pollution prevention goals of the PPA. A more precise understanding of the structures and practices at TRI facilities leads to improvements in the source reduction information that is relied upon to develop effective control strategies (PPA section 6602(a)).

C. What are the benefits of foreign parent company data?

Environmental agencies, industry, and the public also use TRI data. EPA program offices use TRI data, along with other data, to help establish programmatic priorities, evaluate potential hazards to human health and the natural environment, and undertake appropriate regulatory and/or enforcement activities. EPA believes that TRI data on the facility's foreign parent company are of interest to the public because of the potential social benefits resulting from the availability of these data. Making TRI information on foreign parent companies available to the public may provide incentives for facilities to reduce TRI chemical releases. For example, the public availability of release information aggregated at the foreign parent company level may induce these parent companies to encourage facilities to reduce releases when such changes would not otherwise be in the parent company's interest if release information were not in the public domain. Potential social benefits derived from voluntary follow-on activities include decreased costs of waste treatment and disposal, lower probability of accidental releases and lower clean-up costs in the event of such releases, reduced contamination of natural resources, improved air and water quality, and reduced risks to human health. Such social benefits would be partially offset by the social costs to implement the changes, such as using flare gas recovery recycling and installing vapor recovery systems. The net social benefits of the information provided by the proposed rule and the possible follow-on activities equal the difference between the total benefits and the total costs of the activities leading to reduced releases (Ref. 2).

For facilities that are owned by a foreign company (i.e., the facility itself or its highest-level U.S.-based parent company are owned by a foreign-based company), identifying foreign parent companies would bring additional clarity on reporting guidelines. Current TRI reporting definitions result in the facility reporting a U.S.-based parent entity that is often a subsidiary or holding company of a larger, foreign company. In many cases, facility personnel know the foreign company's name more readily than the domestic holding company's name. Further, in cases where TRI facilities are directly owned by a foreign company, with no U.S.-based subsidiary or holding company, the facilities are unable to report any parent company under the existing definition, only indicating “No U.S. Parent Company (for TRI reporting purposes)” in the TRI reporting form checkbox. Issues surrounding foreign ownership of TRI reporting facilities have caused reporting uncertainty for facilities in the past. The reporting of the highest-level foreign company in these situations would help improve TRI reporting for facilities by possibly allowing TRI reporting software to help suggest parent company names submitted by facilities with similar parent company data and industrial activities.

Reporting a facility's foreign parent company name and its Dun and Bradstreet identification number (D-U-N-S number), if applicable, would not only create greater certainty among relevant TRI reporting facilities, it would also provide TRI data users with more accurate parent company-level data. Including foreign parent company data would enhance parent company data collected at the U.S. level. Notably, this would allow TRI data users to compare the data across the same foreign parent when no U.S.-based parent exists and conduct the same trend analyses as users could for the highest-level U.S.-based parent. For TRI data analysis purposes, listing a subsidiary or holding company rather than the actual parent company is an impediment to TRI data users seeking to conduct a more accurate and comprehensive assessment of the waste management and source reduction activities by parent companies. As multiple subsidiaries or holding companies may exist underneath larger corporations, excluding foreign parent companies proves difficult to aggregate at the actual parent company level. Whereas facilities whose highest-level parents are foreign-based cannot be identified easily by current TRI data, requiring the reporting of a highest-level foreign parent would allow EPA and its data users to analyze trends at a more appropriate corporate level, similar to current analysis of U.S.-based companies. Under complex corporate ownership structures, TRI facilities ultimately owned by foreign parent companies are required to report a U.S.-based company that may not be easily recognizable as an entity within a larger, foreign firm. For instance, holding companies and subsidiaries with different names from their foreign parent are currently listed in TRI data under the subsidiary and lesser-known names that do not accurately represent the true ownership structure of a facility. This may skew analyses of TRI parent company data by suggesting foreign firms may not be as involved in the ownership and operation of TRI reporting facilities as U.S.-based companies. Collecting and analyzing data on foreign parent companies of TRI facilities would provide more accurate data for TRI data users.

D. Will additional information need to be reported to TRI under this proposal?

EPA will continue to provide a data element in the facility identification sections of the Form R and Form A Certification Statement for a facility to report the name of the highest-level U.S.-based parent company, as well as the D-U-N-S number for this company when one exists (see: http://www.dnb.com/duns-number.html). Additionally, the Agency is proposing to add a data element to the Form R and Form A certification for a facility to report the name and identification-U-N-S number of a foreign-based parent company, if there is one. A facility whose highest-level U.S.-based parent company is owned by a foreign company would report both the U.S.-based parent company (Part I, Section 5.1 on the reporting forms) and the foreign parent company (the proposed Part I, Section 5.3 on the reporting forms), and their D-U-N-S numbers.

A facility whose U.S.-based parent company is not owned by any foreign-based company would simply check an “NA” box (or similar) in the proposed Part I, Section 5.3 on the reporting forms.

E. Request for Comments

EPA requests comments on the implementation of this proposed rulemaking, including alternative reporting scenarios for this data element. EPA solicits comments on the extent to which TRI reporting form regulations and guidance includes a facility's foreign parent company, if applicable. First, EPA is interested in receiving comments on whether to include reporting the applicable foreign parent company. The alternative would be to codify the parent company definition but limit the guidance and reporting form data elements such that only the highest U.S.-based company would be reported. Additionally, EPA is interested in receiving comments on whether to add a new data element to the reporting form to identify the proper foreign parent company, if any. EPA considered the following three options, and the proposed rulemaking reflects Option 3:

• Option 1: Parent company definition would be codified and included in the Reporting Forms and Instructions (RFI). The reporting regulations would only require reporting the highest-level U.S.-based parent company in the current data element under Part I, Section 5.1.

• Option 2: Codified parent company definition would be similar to that proposed in this document, plus EPA would include instructions for how to report a foreign parent company in Part I, Section 5.1 instead of the highest-level U.S.-based parent company when applicable. No additional data element would be added to the reporting form.

• Option 3: Codified parent company definition identical to that proposed in this document, including reporting both the highest-level U.S.-based parent company and highest-level foreign parent company, and add a new data element to Part I, Section 5 of the reporting forms for reporting the name of a foreign company and its D-U-N-S number, in addition to reporting the highest-level U.S.-based parent company, when applicable.

All three options are included in the economic analysis, which is available in the docket for this rulemaking (Ref. 2).

Additionally, Part II, Section 6.2 of the Form R includes a checkbox which indicates whether an off-site, non-POTW (publicly owned treatment works) location that receives a transfer from the reporting facility is under the management or control of the reporting facility, or under the management or control of that facility's parent company. EPA included this element on the Form R to “give users of [TRI] data an important indication of the relative level of responsibility for the ultimate disposition of the chemical in the environment” (52 FR 21159; June 4, 1987). When the Agency added this checkbox, it indicated that this information would likely to be readily available to submitters. Id. Accordingly, EPA believes that extending this checkbox to apply to an off-site, non-POTW location that receives a transfer from the reporting facility that is under the management or control of the reporting facility, or under the management or control of that facility's U.S.-based or foreign parent company would provide users of TRI data an important indication of the relative level of responsibility for the ultimate disposition of the chemical in the environment. The proposed regulatory text changes in this action do not address this additional data element at this time. EPA does not anticipate a measurable increase in burden were the checkbox to apply to foreign parent ownership and thus the economic analysis does not reflect Section 6.2 checkbox reporting. Similarly, EPA believes that a facility is likely to know whether or not it is transferring waste to another facility with a common parent company, either U.S.-based or international; transfers to such a facility are likely conducted at least in part due to their common ownership. EPA is requesting comment on the benefits and burdens that might accrue should EPA extend this checkbox to include parent ownership beyond the U.S.-based parent.

III. References

The following is a listing of the documents that are specifically referenced in this document. The docket includes these documents and other information considered by EPA, including documents that are referenced within the documents that are included in the docket, even if the referenced document is not physically located in the docket. For assistance in locating these other documents, please consult the technical person listed under FOR FURTHER INFORMATION CONTACT.

1. USEPA, OPPT. 2020 Standardized Parent Company Names. January 2021.

2. USEPA, OPPT. Economic Analysis of the Proposed Parent Company Definition for TRI Reporting. March 29, 2021.

3. USEPA, OPPT. TRI National Analysis 2019. January 2021.

4. USEPA, OPPT. Information Collection Request Supporting Statement. Proposed Rule ICR: Parent Company. Definition for TRI Reporting. April 2021.

IV. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review.

B. Paperwork Reduction Act (PRA)

The information collection activities in this proposed rule have been submitted for approval to the Office of Management and Budget (OMB) under the PRA. The Information Collection Request (ICR) document that the EPA prepared has been assigned EPA ICR number 2597.01 (Ref. 4). You can find a copy of the ICR in the docket for this proposed rule, and it is briefly summarized here.

This proposed action would require all TRI reporters to refer to TRI regulatory text in reporting their parent company(s). Facilities which report to TRI currently rely on guidance for this required data element but lack a codified definition. Additionally, all TRI reporters with foreign parent companies would be required to submit additional information (indicate the foreign parent company name or not applicable). This proposed action would allow TRI data users, which include the general public, industry, researchers, and the media, to better aggregate and understand this data.

Respondents/affected entities: The proposed rule will affect any facility required to report to TRI. This proposed action would not change the universe of TRI reporting facilities.

Respondent's obligation to respond: Mandatory, 42 U.S.C. 11023.

Estimated number of respondents: 21,458.

Frequency of response: Annual.

Total estimated burden hours: Across all facilities, the total first year burden hours will be up to 18,091 hours, and up to 210 hours every subsequent year. Burden is defined at 5 CFR 1320.3(b).

Total estimated burden cost: Up to $1,209,202 in the first year, and up to $14,020 every subsequent year, includes $0 annualized capital or operation and maintenance costs.

An agency may not conduct or sponsor, and a person is not required to respond to, a collection of information unless it displays a currently valid OMB control number. The OMB control numbers for the EPA's regulations in 40 CFR are listed in 40 CFR part 9.

Submit your comments on the Agency's need for this information, the accuracy of the provided burden estimates and any suggested methods for minimizing respondent burden to the EPA using the docket identified at the beginning of this proposed rule. You may also send your ICR-related comments to OMB's Office of Information and Regulatory Affairs using the interface at www.reginfo.gov/public/do/PRAMain. Find this particular information collection by selecting “Currently under Review—Open for Public Comments” or by using the search function. Since OMB is required to make a decision concerning the ICR between 30 and 60 days after receipt, OMB must receive comments no later than October 28, 2021. The EPA will respond to any ICR-related comments in the final rule.

C. Regulatory Flexibility Act (RFA)

I certify that this action will not have a significant economic impact on a substantial number of small entities under the RFA. The small entities subject to the requirements of this action are small privately-owned facilities and municipal government-owned facilities who are required to report to EPA under EPCRA section 313. The Agency has determined that all entities, including any small entities, may experience an impact of incurring annualized costs of less than 1%. Details of this analysis are presented in EPA's economic analysis (Ref. 2).

D. Unfunded Mandates Reform Act (UMRA)

This action does not contain any unfunded mandate of $100 million or more as described in UMRA, 2 U.S.C. 1531-1538, and does not significantly or uniquely affect small governments. The action imposes no enforceable duty on any state, local or tribal governments or the private sector.

E. Executive Order 13132: Federalism

This action does not have federalism implications as specified in Executive Order 13132 (64 FR 43255, August 10, 1999). It will not have substantial direct effects on the states, on the relationship between the national government and the states, or on the distribution of power and responsibilities among the various levels of government.

F. Executive Order 13175: Consultation and Coordination With Indian Tribal Governments

This action does not have tribal implications as specified in Executive Order 13175 (65 FR 67249). This proposed rule will not impose substantial direct compliance costs on Indian tribal governments. Thus, Executive Order 13175 does not apply to this action.

G. Executive Order 13045: Protection of Children From Environmental Health Risks and Safety Risks

The EPA interprets Executive Order 13045 (62 FR 19885, April 23, 1997) as applying only to those regulatory actions that concern environmental health or safety risks that the EPA has reason to believe may disproportionately affect children, per the definition of “covered regulatory action” in section 2-202 of the Executive Order. This action is not subject to Executive Order 13045 because it does not concern an environmental health risk or safety risk.

H. Executive Order 13211: Actions Concerning Regulations That Significantly Affect Energy Supply, Distribution or Use

This action is not subject to Executive Order 13211, because it is not a significant regulatory action under Executive Order 12866.

I. National Technology Transfer and Advancement Act (NTTAA)

This rulemaking does not involve technical standards.

J. Executive Order 12898: Federal Actions To Address Environmental Justice in Minority Populations and Low-Income Populations

The EPA believes that this action is not subject to Executive Order 12898 (59 FR 7629, February 16, 1994) because it does not establish an environmental health or safety standard. This action is a procedural change and does not have any impact on human health or the environment.

List of Subjects in 40 CFR Part 372

Community right-to-know, Environmental protection, Reporting and recordkeeping requirements.

Dated: September 21, 2021.
Michal Freedhoff,
Assistant Administrator, Office of Chemical Safety and Pollution Prevention.

For the reasons discussed in the preamble, EPA proposes to amend 40 CFR part 372 as follows:

PART 372—TOXIC CHEMICAL RELEASE REPORTING: COMMUNITY RIGHT-TO-KNOW

1. The authority citation for part 372 continues to read as follows:

Authority: 42 U.S.C. 11023 and 11048.

2. In § 372.3, add in alphabetical order the definition for “Parent company” to read as follows:

§ 372.3 Definitions.

* * * * *

Parent company means the highest-level company(s) of the facility's ownership hierarchy as of December 31 of the year for which data are being reported according to the following instructions. The U.S. parent company is located within the United States while the foreign parent company is located outside the United States:

(1) If the facility is entirely owned by a single U.S. company that is not owned by another company, that single company is the U.S. parent company.

(2) If the facility is entirely owned by a single U.S. company that is, itself, owned by another U.S.-based company (e.g., it is a division or subsidiary of a higher-level company), the highest-level company in the ownership hierarchy is the U.S. parent company. If there is a higher-level parent company that is outside of the United States, the highest-level foreign company in the ownership hierarchy is the foreign parent company.

(3) If the facility is owned by more than one company (e.g., company A owns 40 percent, company B owns 35 percent, and company C owns 25 percent), the highest-level U.S. company with the largest ownership interest in the facility is the U.S. parent company. If there is a higher-level foreign company in the ownership hierarchy, that company is the foreign parent company.

(4) If the facility is owned by a 50:50 joint venture or a cooperative, the joint venture or cooperative is its own parent company.

(5) If the facility is entirely owned by a foreign company (i.e., without a U.S.-based subsidiary within the facility's ownership hierarchy), the highest-level foreign parent company is the facility's foreign parent company.

(6) If the facility is federally owned, the highest-level federal agency or department operating the facility is the U.S. parent company.

(7) If the facility is owned by a non-federal public entity (such as a municipality, State, or tribe), that entity is the U.S. parent company.

* * * * *

3. In § 372.85, revise paragraph (b)(8) to read as follows:

§ 372.85 Toxic chemical release reporting form and instructions.

* * * * *

(b) * * *

(8) Legal name of the facility's U.S.-based parent company and its Dun and Bradstreet identification number.

(i) Legal name of the facility's highest-level foreign parent company and its Dun and Bradstreet identification number, when applicable.

(ii) The facility must report using the standardized conventions for the naming of a parent company as provided in the toxic chemical release inventory reporting instructions identified in paragraph (a) of this section.

* * * * *

4. In § 372.95, revise paragraph (b)(12) to read as follows:

§ 372.95 Alternate threshold certification and instructions.

* * * * *

(b) * * *

(12) Legal name of the facility's U.S.-based parent company and its Dun and Bradstreet identification number.

(i) Legal name of the facility's highest-level foreign parent company and its Dun and Bradstreet identification number, when applicable.

(ii) The facility must report using the standardized conventions for the naming of a parent company as provided in the toxic chemical release inventory reporting instructions identified in paragraph (a) of this section.

* * * * *

[FR Doc. 2021-20965 Filed 9-27-21; 8:45 am]

BILLING CODE 6560-50-P